DEPARTMENT OF THE INTERIOR

National Park Service

[N6549; NPS-WASO-NAGPRA-NPS0041138; PPWOCRADN0-PCU00RP14.R50000]

Notice of Inventory Completion: History Colorado, Denver, CO

AGENCY: National Park Service, Interior.

ACTION: Notice.

SUMMARY: In accordance with the Native American Graves Protection and Repatriation Act (NAGPRA), History Colorado has completed an inventory of human remains and has determined that there is a cultural affiliation between the human remains and Indian Tribes or Native Hawaiian organizations in this notice.

DATES: Repatriation of the human remains in this notice may occur on or after October 27, 2025.

ADDRESSES: Send written requests for repatriation of the human remains in this notice to Chance Ward, NAGPRA Collections Specialist, History Colorado, 1200 N Broadway, Denver CO 80203, email Chance.ward@state.co.us.

SUPPLEMENTARY INFORMATION: This notice is published as part of the National Park Service's administrative responsibilities under NAGPRA. The determinations in this notice are the sole responsibility of History Colorado and additional information on the determinations in this notice, including the results of consultation, can be found in its inventory or related records. The National Park Service is not responsible for the determinations in this notice.

Abstract of Information Available

Human remains representing, at least, two individuals have been identified. No associated funerary objects are present. Presence of any potentially hazardous substances is unknown.

OAHP Case 360: From Douglas County. A private citizen said they found ancestral remains in garbage bins and turned into county coroner's office. One ancestor. No funerary objects. No other information or context is known.

OAHP Case 364: Hikers reported ancestral remains found near Wellington Lake in Jefferson County. Law Enforcement turned over to county coroner's office. One ancestor. No funerary objects. No other information or context is known.

Cultural Affiliation

Based on the information available and the results of consultation, cultural affiliation is reasonably identified by the geographic location and/or acquisition history of the human remains in this Notice.

Determinations

History Colorado has determined that:

• The human remains described in this notice represent the physical remains of two individuals of Native American ancestry.

• There is a connection between the human remains described in this notice and the Pawnee Nation of Oklahoma.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after October 27, 2025. If competing requests for repatriation are received, History Colorado must determine the most appropriate requestor prior to repatriation. Requests for joint repatriation of the human remains are considered a single request and not competing requests. History Colorado is responsible for sending a copy of this notice to the Indian Tribes and Native Hawaiian organizations identified in this notice and any other consulting parties.

Authority: Native American Graves Protection and Repatriation Act, 25 U.S.C. 3003, and the implementing regulations, 43 CFR 10.10.

Dated: September 11, 2025.
Melanie O'Brien,
Manager, National NAGPRA Program.

[FR Doc. 2025-18571 Filed 9-24-25; 8:45 am]

BILLING CODE 4312-52-P